DEPARTMENT OF THE TREASURY

Office of Foreign Assets Control

Actions Taken Pursuant to Executive Orders 13608 and 13645

AGENCY: Office of Foreign Assets Control, Treasury.

ACTION: Notice.

SUMMARY: The Treasury Department's Office of Foreign Assets Control (“OFAC”) is providing notice of actions taken by OFAC with respect to VITALY SOKOLENKO to impose sanctions pursuant to Executive Order 13608 of May 1, 2012 and Executive Order 13645 of June 3, 2013.

DATES: OFAC's actions pursuant to Executive Orders 13608 and 13645 described in this notice were effective December 12, 2013.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

Additional information concerning OFAC is available from OFAC's Web site (www.treasury.gov/ofac). Certain general information pertaining to OFAC's sanctions programs also is available via facsimile through a 24-hour fax-on-demand service, tel.: 202/622-0077.

Background

On May 1, 2012, the President issued Executive Order 13608, “Prohibiting Certain Transactions With and Suspending Entry Into the United States of Foreign Sanctions Evaders With Respect to Iran and Syria” (“E.O. 13608”). Section 1 (a)(ii) of E.O. 13608 authorizes the Secretary of the Treasury, in consultation with the Secretary of State, to impose on a foreign person certain measures upon determining that the foreign person has, inter alia, “facilitated deceptive transactions for or on behalf of any person subject to United States sanctions concerning Iran or Syria.” Section 1(a)(iii) of E.O. 13608 authorizes the Secretary of the Treasury, in consultation with the Secretary of State, to impose on a foreign person certain measures upon determining that the foreign person is, inter alia, acting or purporting to act for or on behalf of, directly or indirectly, any person determined to meet the criteria for the imposition of sanctions set forth in section 1(a) of E.O. 13608.

Section 7(d) of E.O. 13608 defines the term “deceptive transaction” to mean “any transaction where the identity of any person subject to United States sanctions concerning Iran or Syria is withheld or obscured from other participants in the transaction or any relevant regulatory authorities.”

Section 1(b) of E.O. 13608 authorizes the Secretary of the Treasury to prohibit all transactions or dealings involving such persons sanctioned under E.O. 13608 in or related to any goods, services, or technology (i) in or intended for the United States, or (ii) provided by or to United States persons, wherever located. These prohibitions cover the aforementioned transactions or dealings, but do not require the blocking of property or interests in property of the person sanctioned pursuant to E.O. 13608.

On June 3, 2013, the President issued Executive Order 13645 (“Authorizing the Implementation of Certain Sanctions Set Forth in the Iran Freedom and Counter-Proliferation Act of 2012 and Additional Sanctions With Respect to Iran”) (“E.O. 13645”). Section 2 of E.O. 13645 blocks, with certain exceptions, all property and interests in property that are in the United States, that hereafter come within the United States, or that are or hereafter come within the possession or control of any United States person, including any foreign branch, of persons determined by the Secretary of the Treasury, in consultation with the Secretary of State, to satisfy any of the criteria set forth in subsection (a)(i) or (a)(ii) of section 2.

On December 12, 2013, the Director of OFAC, acting pursuant to delegated authority, determined that the individual identified below, meets the criteria set forth in subsections 1(a)(ii) and 1(a)(iii) of E.O. 13608,¹ imposed sanctions on that individual, and prohibited all transactions or dealings involving that individual, as described in Section 1(b) of E.O. 13608. In addition, on December 11, 2013, the Director of OFAC designated the individual identified below as a person whose property and interests in property are blocked pursuant to section 2 of E.O. 13645.²

¹ VITALY SOKOLENKO is the General Manager of FERLAND COMPANY LIMITED. On May 31, 2013, the Director of OFAC, acting pursuant to delegated authority, imposed sanctions on FERLAND COMPANY LIMITED pursuant to section 1(a)(ii) of E.O. 13608. On the same day, the Director of OFAC took action to implement additional sanctions imposed on FERLAND COMPANY LIMITED by the Secretary of State pursuant to the Iran Sanctions Act of 1996, as amended. Separately, on December 11, 2013, the Director of OFAC designated FERLAND COMPANY LIMITED pursuant to section 2 of E.O. 13645. A separate notice detailing OFAC's May 31, 2013 and December 12, 2013 actions with respect to FERLAND COMPANY LIMITED is being published in today's Federal Register.

² As noted above, on December 12, 2013, the Director of OFAC designated individual VITALY SOKOLENKO and entity FERLAND COMPANY LIMITED pursuant to section 2 of E.O. 13645. On the same day, the Director of OFAC designated three additional entities pursuant to section 2 of E.O. 13645 and identified three vessels as blocked property of one of the entities. A notice detailing OFAC's December 12, 2013 actions with respect to the three additional entities and three vessels is being published in today's Federal Register.

Individual

• SOKOLENKO, Vitaly (a.k.a. SOKOLENKO, Vitalii; a.k.a. SOKOLENKO, Vitaliy); DOB 16 Jun 1968; Executive Order 13645 Determination—Material Support; Passport EH354160; alt. Passport P0329907; General Manager of Ferland Company Limited (individual) [FSE-IR] [EO13645]

The Director of OFAC has prohibited all transactions or dealings involving the individual listed above in or related to any goods, services, or technology (i) in or intended for the United States, or (ii) provided by or to United States persons, wherever located. The individual listed above has been added to OFAC's List of Foreign Sanctions Evaders with the identifying tag “FSE-IR” and OFAC's List of Specially Designated Nationals and Blocked Persons with the identifying tags “FSE-IR” and “EO13645.”

Dated: August 8, 2014.
Barbara C. Hammerle,
Acting Director, Office of Foreign Assets Control.

[FR Doc. 2014-21216 Filed 9-5-14; 8:45 am]

BILLING CODE 4810-AL-P